COMMODITY FUTURES TRADING COMMISSION

Notice of Sunshine Act Meetings

Agency Holding The Meeting: Commodity Futures Trading Commission.

Sunshine Act Meetings

Time and Date: 12 p.m., Wednesday, January 16, 2008.

Place: 1155 21st St., NW., Washington, DC, 9th Floor Commission Conference Room.

Status: Closed.

Matters To Be Considered: The notice previously published on Friday, December 28, 2007 (72 FR 73777) is corrected under the heading “Matters to be Considered” to read “Enforcement Matters”.

Contact Person for More Information: Sauntia S. Warfield, 202-418-5084.

David A. Stawick,
Secretary of the Commission.

[FR Doc. 08-78 Filed 1-8-08; 12:13 pm]

BILLING CODE 6351-01-P